ENVIRONMENTAL PROTECTION AGENCY

40 CFR Part 52

[EPA-R06-OAR-2016-0406; FRL-9967-77-Region 6]

Approval and Promulgation of Implementation Plans; New Mexico; Albuquerque and Bernalillo County; Regional Haze Progress Report State Implementation Plan

AGENCY: Environmental Protection Agency (EPA).

ACTION: Proposed rule.

SUMMARY: Pursuant to the Federal Clean Air Act (CAA or the Act), the Environmental Protection Agency (EPA) is proposing to approve a revision to a State Implementation Plan (SIP) for the City of Albuquerque and Bernalillo County, New Mexico (the County) submitted by the Governor on June 24, 2016. The SIP revision addresses requirements of the Act and the EPA's rules that require the County to submit a periodic report assessing reasonable progress goals (RPGs) for regional haze with a determination of the adequacy of the existing regional haze SIP.

DATES: Written comments must be received on or before November 1, 2017.

ADDRESSES: Submit comments, identified by Docket No. EPA-R06-OAR-2016-0406, at http://www.regulations.gov or via email to grady.james@epa.gov. Follow the online instructions for submitting comments. Once submitted, comments cannot be edited or removed from Regulations.gov. The EPA may publish any comment received to its public docket. Do not submit any information electronically that is considered Confidential Business Information (CBI) or any other information whose disclosure is restricted by statute. Multimedia submissions (audio, video, etc.) must be accompanied by a written comment. The written comment will be considered the official comment with multimedia submissions and should include all discussion points desired. The EPA will generally not consider comments or their contents submitted outside of the primary submission (i.e. on the web, cloud, or other file sharing systems). For additional submission methods, please contact James E. Grady, (214) 665-6745, grady.james@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: James E. Grady, (214) 665-6745; grady.james@epa.gov. To inspect the hard copy materials, please schedule an appointment with James E. Grady or Mr. Bill Deese at 214-665-7253.

SUPPLEMENTARY INFORMATION: Throughout this document “we,” “us,” or “our” each mean “the EPA.”

Table of Contents:

I. Background on Regional Haze

A. Visibility Protection

B. Regulation Overview

II. Requirements for Regional Haze Progress Report

III. Evaluation of Regional Haze Progress Report

A. Class I Areas

B. Status of Control Strategies

1. SO2 Milestone and Backstop Trading Program

2. NOX and PM Control Strategies

3. Best Available Retrofit Technology (BART)

4. Mobile Source Emissions

5. Fire and Smoke Management

6. Fugitive and Unpaved Road Dust Measures

7. Additional Controls—Local State Regulations

8. Summary of Control Strategy Implementation

C. Emission Reductions From Control Strategies

D. Visibility Progress

E. Emissions Progress

F. Assessment of Changes Impeding Visibility Progress

G. Assessment of Current Strategy To Meet RPGs

H. Review of Visibility Monitoring Strategy

I. Determination of Adequacy of Existing Regional Haze Plan

IV. The EPA's Proposed Action

V. Statutory and Executive Order Reviews

I. Background on Regional Haze

A. Visibility Protection

Regional haze is visibility impairment that occurs over a wide geographic area primarily from the pollution of fine particles (PM2.5) in nature.¹ Fine particles causing haze consist of sulfates, nitrates, organics, elemental carbon (EC), and soil dust.² Airborne PM2.5 can scatter and absorb the incident light and, therefore, lead to atmospheric opacity and horizontal visibility degradation. Regional haze limits visual distance and reduces color, clarity and contrast of view. Emissions that affect visibility include a wide variety of natural and man-made sources. In New Mexico, the most important sources of haze-forming emissions are coal-fired power plants, oil and gas development, woodland fires, and windblown dust. Reducing PM2.5 and its precursor gases in the atmosphere is an effective method of improving visibility. PM2.5 precursors consist of sulfur dioxide (SO2), nitrogen oxides (NOX), ammonia (NH3) and volatile organic compounds (VOCs).

¹ Fine particles are less than or equal to 2.5 microns (µm) in diameter and usually form secondary in nature indirectly from other sources. Particles less than or equal to 10 µm in diameter are referred to as PM10. Particles greater than PM2.5 but less than PM10 are referred to as coarse mass. Coarse mass can contribute to light extinction as well and is made up of primary particles directly emitted into the air. Fine particles tend to be man-made, while coarse particles tend to have a natural origin. Coarse mass settles out from the air more rapidly than fine particles and usually will be found relatively close to emission sources. Fine particles can be transported long distances by wind and can be found in the air thousands of miles from where they were formed.

² Organic carbon (OC) can be emitted directly as particles, or formed through reactions involving gaseous emissions. Elemental carbon, in contrast to organic carbon, is exclusively of primary origin and emitted by the incomplete combustion of carbon-based fuels. They are especially prevalent in diesel exhaust and smoke from wild and prescribed fires.

B. Regulation Overview

In section 169A of the 1977 CAA Amendments, Congress declared as a national goal the prevention of any future, and the remedying of any existing, visibility impairment in mandatory class I Federal areas where impairment results from manmade air pollution.³ Congress added section 169B to the CAA in 1990 that added visibility protection provisions, and the EPA published final regulations addressing regional haze with the 1999 Regional Haze Rule (RHR).⁴ The RHR revised the existing visibility regulations and established a more comprehensive visibility protection program for mandatory Class I areas. The requirements for regional haze are found at 40 CFR 51.308 and 51.309. States must demonstrate reasonable progress toward meeting the national goal of a return to natural visibility conditions for mandatory Class I Federal areas both within and outside states by 2064. The requirement to submit a regional haze SIP applies to all fifty states, the District of Columbia, and the Virgin Islands. The City of Albuquerque and Bernalillo County,⁵ New Mexico must also submit a regional haze SIP separate from the State of New Mexico ⁶ to completely satisfy the requirements of section 110(a)(2)(D) of the CAA for the entire State under the New Mexico Air Quality Control Act (section 74-2-4).⁷

³ Mandatory Class I Federal areas consist of national parks exceeding 6,000 acres, wilderness areas and national memorial parks exceeding 5,000 acres, and all international parks that were in existence on August 7, 1977. The EPA, in consultation with the Department of Interior, promulgated a list of 156 areas where visibility was identified as an important value. The extent of a mandatory Class I area includes subsequent changes in boundaries, such as park expansions. Although states and tribes may designate additional areas as Class I, the requirements of the visibility program set forth in the CAA applies only to “mandatory Class I Federal areas.” Each mandatory Class I Federal area is the responsibility of a “Federal Land Manager.” When the term “Class I area” is used in this action, it means “mandatory Class I Federal areas.” [See 44 FR 69122, November 30, 1979 and CAA Sections 162(a), 169A, and 302(i)].

⁴ See July 1, 1999 Regional Haze Rule final action (64 FR 35714), as amended in July 6, 2005 (70 FR 39156), October 13, 2006 (71 FR 60631), June 7, 2012 (77 FR 33656) and in January 10, 2017 (82 FR 3079).

⁵ Note that the City of Albuquerque and Bernalillo County is treated like a “state” for purposes of implementing the RHR, which is written specifically for states. The EPA regulates and funds Bernalillo County as it does any other state air agency. Enacted in 1967, the New Mexico State Air Quality Control Act [NMSA 1978 Sections 74-2-4, 74-2-5, and 74-2-7] allowed for the establishment of the Air Quality Control Board (AQCB) as a local board and empowered it with the authority to administer and enforce its air quality regulations within Bernalillo County. The AQCB has jurisdiction over all of Bernalillo County, (including the City of Albuquerque), except Indian lands. The State of New Mexico Environmental Improvement Board (EIB) has jurisdiction over all other counties in New Mexico.

⁶ On December 31, 2003, New Mexico submitted a regional haze SIP with later revisions (July 5, 2011 and October 7, 2013) that addressed 40 CFR 51.309. The EPA approved both of the (2003 and 2011) submittals on November 27, 2012 (77 FR 70693) and approved a 2013 revision on October 9, 2014 with two separate rules (79 FR 60985 and 79 FR 60978). The New Mexico progress report was approved by the EPA on November 3, 2015 (see 80 FR 67682).

⁷On November 12, 2003, the County first adopted its 40 CFR 51.309 regional haze SIP with later revisions (August 13, 2008; June 8, 2011). The EPA approved these submittals on Apr. 25, 2012 (77 FR 24768).

II. Requirements for Regional Haze Progress Report

The RHR requires a comprehensive analysis of each state's regional haze SIP every ten years and a progress report at five-year intervals. The five-year review is intended to provide an interim report on the implementation of, and, if necessary, mid-course corrections to, the regional haze SIP. The progress report provides an opportunity for public input on the County's (and the EPA's) assessment of whether the approved regional haze SIP is being implemented appropriately and whether reasonable visibility progress is being achieved consistent with the projected visibility improvement in the SIP. At a minimum, the required elements of the progress report under the RHR must include the following seven elements: ⁸

⁸ See also General Principles for the 5-Year Regional Haze Progress Reports for the Initial Regional Haze State Implementation Plans (Intended to Assist States and EPA Regional Offices in Development and Review of the Progress Reports), April 2013, EPA-454/B-03-005, available at https://www.epa.gov/sites/production/files/2016-03/documents/haze_5year_4-10-13.pdf.

(1) Provide a description of the status of implementation of all measures included in the regional haze SIP.

(2) Summarize the emissions reductions achieved throughout the state.

(3) Provide an assessment of current visibility conditions and the change in visibility impairment over the past five years.

(4) Provide analysis tracking the change over the past five years in emissions of pollutants contributing to visibility impairment from all sources and activities within the state.

(5) Provide an assessment of any significant changes in anthropogenic emissions within or outside the state that have occurred over the past five years that have limited or impeded progress in reducing pollutant emissions and improving visibility.

(6) Provide an assessment of whether the current SIP elements and strategies are sufficient to enable the state (or other states with mandatory Class I areas affected by emissions from the state) to meet all established RPGs.

(7) Provide a review of the state's visibility monitoring strategy and any modifications to the strategy as necessary.

The City of Albuquerque and Bernalillo County, New Mexico submitted its progress report SIP for the County under 40 CFR 51.309 on June 24, 2016. Typically, progress report requirements of most states are covered under 40 CFR 51.308(g) and (h). 40 CFR 51.309 presents nine western states with an optional approach of fulfilling RHR requirements by adopting emission reduction strategies developed by the Grand Canyon Visibility Transport Commission (GCVTC). These strategies were designed primarily to improve visibility of sixteen Class I areas in the Colorado Plateau area.⁹ Three western states (New Mexico, Utah and Wyoming) including the City of Albuquerque and Bernalillo County, NM exercised the option provided in the RHR to meet alternative requirements contained in 40 CFR 51.309 for regional haze SIPs. For these states, the required content of the five-year progress report is identical with those for the other states, but are codified at 40 CFR 51.309(d)(10) instead of at 40 CFR 51.308 (g) and (h). This section specifies fixed due dates in 2013 and 2018 for these progress reports.¹⁰ In contrast, under 40 CFR 51.308, states must submit a progress report five years from submittal of the initial implementation plan. Under 40 CFR 51.309(d)(10)(ii), states are required to submit, at the same time as the progress report SIP, a determination of the adequacy of their existing regional haze SIP and to take one of four possible actions, as described in more detail in this proposal.

⁹ The Colorado Plateau is a high, semi-arid tableland in Southeast Utah, Northern Arizona, Northwest New Mexico, and Western Colorado. The sixteen mandatory Class I areas are as follows: Grand Canyon National Park, Mount Baldy Wilderness, Petrified Forest National Park, Sycamore Canyon Wilderness, Black Canyon of the Gunnison National Park Wilderness, Flat Tops Wilderness, Maroon Bells Wilderness, Mesa Verde National Park, Weminuche Wilderness, West Elk Wilderness, San Pedro Parks Wilderness, Arches National Park, Bryce Canyon National Park, Canyonlands National Park, Capital Reef National Park, and Zion National Park.

¹⁰ The 1999 RHR provided that these three states will eventually revert to the progress report due date requirements in 40 CFR 51.308 for the second implementation period. Recently, there was an extension of the second regional haze implementation period deadline from 2018 to 2021. (82 FR 3080, January 10, 2017).

III. Evaluation of Regional Haze Progress Report

On July 28 2011, the AQCB submitted a regional haze SIP for its own geographic area of Bernalillo County, New Mexico (including the City of Albuquerque) that addressed the requirements of 40 CFR 51.309.¹¹ This SIP submittal was a necessary component of the regional haze plan for New Mexico to ensure that the requirements of section 110(a)(2)(D) of the CAA were satisfied for the whole state. On July 6, 2016, the EPA received the periodic report on progress for the County's regional haze SIP in the form of a SIP revision. This latest submission is the subject of this proposed approval. The periodic report was made in the first implementation period to assess visibility progression for Class I areas in and outside of the County that were negatively affected by emissions from within the County. The progress report included the County's determination that the existing regional haze SIP required no substantive revisions to achieve the established regional haze visibility improvement and emission reduction goals for 2018. The EPA agrees with the County's assessment and is proposing to approve its progress report SIP on the basis that it satisfies all requirements of 40 CFR 51.309(d)(10) as explained in further details in each subsequent section.

¹¹ See the EPA's proposed approval (77 FR 24768, April 25, 2012) and final rule (77 FR 71119, November 29, 2012) for the County.

A. Class I Areas

The City of Albuquerque and Bernalillo County does not formulate specific RPGs for particular Class I areas within its borders since no such areas exist.¹² Therefore, the County is not required to identify RPGs or calculate baseline and natural visibility conditions at any Class I area. The County, however, is required to address the apportionment of visibility impact from the emissions generated by sources within the County at Class I areas outside of the County borders. As a result, the progress report addressed the emissions impact on RPGs and related emission reduction goals for nine Class I areas within the state of New Mexico that were identified as being close enough to the County that they could conceivably be affected by emissions from within the County. The nine Class I areas within New Mexico that were addressed in the progress report were: Bandelier Wilderness, Bosque del Apache National Wildlife Refuge, Carlsbad Caverns National Park, Gila Wilderness, Pecos Wilderness, Salt Creek Wilderness, Wheeler Peak Wilderness, White Mountain Wilderness, and San Pedro Parks Wilderness.¹³ Visibility impairment at New Mexico's nine Class I areas was tracked in units of deciviews (dv)¹⁴ as measured by eight monitors in the Interagency Monitoring of Protected Visual Environments (IMPROVE) Network. Through collaboration with the Western Regional Air Partnership (WRAP),¹⁵ the AQCB worked with New Mexico and other western states to assess state-by-state contributions to visibility impairment in specific Class I areas affected by Albuquerque and Bernalillo County, NM emissions. The determinations in the progress report relied on the technical analysis and emission inventories developed by the WRAP which is documented online and also appears in the technical appendices.¹⁶

¹² See 77 FR 24768, 24790 (Apr. 25, 2012).

¹³ The Section 309 SIP submitted by New Mexico in December 2003 addressed only San Pedro Parks Wilderness Area and the other Class I areas were added in a later SIP revision under Section 309(g) in June 2011 and revised in October 2013. The EPA approved both of the (2003 and 2011) submittals on November 27, 2012 (77 FR 70693) and approved a 2013 revision on October 9, 2014 with two separate rules (79 FR 60985 and 79 FR 60978).

¹⁴ A deciview is a haze index derived from calculated light extinction, such that uniform changes in haziness correspond to uniform incremental changes in perception across the entire range of conditions, from pristine to highly impaired. The preamble to the RHR provides additional details about the deciview (64 FR 35714, 35725, July 1, 1999).

¹⁵ The WRAP is a collaborative effort of tribal governments, state governments and various federal agencies representing the western states that provides technical and policy tools for the western states and tribes to comply with the EPA's Regional Haze regulations. Detailed information regarding WRAP support of air quality management issues for western states is provided on the WRAP Web site (www.wrapair2.org). Data summary descriptions and tools specific to RHR support are available on the WRAP Technical Support System Web site (http://vista.cira.colostate.edu/tss/).

¹⁶ The Western Regional Air Partnership Regional Haze Rule Reasonable Progress Summary Report technical support document has been prepared on behalf of the fifteen Western State members in the WRAP region to provide the technical basis for use by states to develop the first of their individual reasonable progress reports for the 116 Federal Class I areas located in the Western states.

The EPA is proposing to find that the County has appropriately identified the Class I areas in this report which could be affected by emissions from within the County, as required by 40 CFR 51.309(g). This regulation provides a requirement for compliance with 40 CFR 51.308(d) to the extent that planning is necessary for areas other than the sixteen Class I areas on the Colorado Plateau addressed in the initial 2003 regional haze SIP. In the ensuing sections, the EPA addresses these Class I areas and the seven regulatory elements required by the progress report SIP; ¹⁷ how the County's progress report SIP addressed each element; and the EPA's analysis and proposed determination as to whether the County satisfied each part.

¹⁷ See 40 CFR 51.309(d)(10)(i).

B. Status of Control Strategies

40 CFR 51.309(d)(10)(i)(A) requires a description of the status of implementation of all control measures included in the regional haze SIP for achieving RPGs for Class I areas both within and outside the state.

The County evaluated the status of all control measures in its 2011 regional haze SIP in accordance with the requirements under 40 CFR 51.309(d)(10)(i)(A). The major control measures identified by the County in the progress report are as follows:

• SO2 Milestone and Backstop Trading Program

• NOX and PM Control Strategies

• Best Available Retrofit Technology (BART)

• Mobile Sources Emissions ¹⁸

¹⁸ Under 40 CFR 51.309(d)(5)(ii), New Mexico is required to submit interim reports to the EPA and the public on the implementation status of the regional and local strategies to address mobile source emissions.

• Fire and Smoke Management

• Fugitive and Unpaved Road Dust Measures

• Additional Controls—Local State Regulations

The County identified ammonium sulfate, particulate organic matter, and coarse mass as the largest contributors to visibility impairment at New Mexico's Class I areas that need to be controlled.¹⁹ Many of the sources, however, that produce these visibility-impairing pollutants in New Mexico are natural, rather than anthropogenic in nature, and are not controllable. For the purpose of this progress report, the County focused on those emission sources that were anthropogenic in nature (as did New Mexico in its report). The primary sources of ammonium sulfate are point sources and mobile source emissions. Ammonium sulfate results from SO2 and NH3 precursor emissions. SO2 emissions in New Mexico are generally associated with anthropogenic point sources such as coal-fired power plants, other industrial sources like refineries and cement plants, and both on and off-road mobile sources. Particulate organic matter emissions in New Mexico are from natural and anthropogenic fire. Large wildfire events in the west dominate particulate organic aerosol emissions which are emitted directly into the air as particles instead of gases. Coarse mass emissions in New Mexico happen mainly as a result of windblown and fugitive dust. Coarse mass settles out of air more rapidly than fine particles, so strong wind events act as a transport vehicle to carry them long distances. Otherwise, they will typically be found close to the emission source.

¹⁹ See the County's 2016 regional haze progress report submittal (page 9) which was reiterated in New Mexico's regional haze progress report (page 7).

1. SO2 Milestone and Backstop Trading Program

The progress report discussed the SO2 Milestone and Backstop Trading Program as a control measure to reduce emissions for major sources of SO2.²⁰ The County has participated in this voluntary program since December 31, 2003.²¹ As part of this program, the Section 309 western states and the County must submit an annual report that compares tracked stationary sources of SO2 emissions to yearly milestones.²² A milestone is an established maximum level of annual emissions for a given year (from 2003-2018). The milestones help establish annual SO2 emission reduction targets. The annual targets represent RPGs in reducing visibility-impairing emissions. If states fail to meet the milestones, then the backstop-trading program is triggered to implement an emissions cap. The cap allocates emission allowances (or credits) to the affected sources based on the cap, and requires the sources to hold sufficient allowances to cover their emissions each year.

²⁰ Under Section 309, nine western states and the tribes within those states had the option of submitting plans to reduce visibility-impairing emissions at sixteen Class I areas on the Colorado Plateau. Five states (Arizona, New Mexico, Oregon, Utah, Wyoming) and the City of Albuquerque and Bernalillo County, NM exercised this option by submitting plans to the EPA by December 1, 2003. Oregon and Arizona have since elected to cease participation in the Milestone and Backstop Trading Program in 2006 and 2010, respectively. The tribes are not subject to any deadline and can still opt into the program at any time.

²¹ The County cooperates with its WRAP partners to maintain an inventory of regional SO2 emissions, across the Section 309 states. The City of Albuquerque Air Quality Program (AQP) monitors SO2 ambient air concentrations in Bernalillo County consistent with EPA regulations. See the City of Albuquerque Environmental Health Department (EHD) Web site at https://www.cabq.gov/airquality/documents for Annual Network Reviews for Ambient Air Monitoring.

²² See WRAP Web site at https://www.wrapair2.org/reghaze.aspx for the Regional Milestone reports. A final 2014 milestone report was posted on March 7, 2016 and a draft 2015 report was posted recently on March 20, 2017. Appendix G of the County progress report includes the 2013 Regional SO2 Emissions and Milestone Report.

The regional haze SIP requires multiyear averaging of emissions for the milestone comparison. From 2005-2017, the three-year average, which includes the reporting year and the two previous years, is calculated and compared to the milestone. The regional milestone for 2013 was 185,795 tons SO2. The three-year average SO2 emissions for 2011, 2012, and 2013 was 105,402 tons SO2, which was 43 percent below the 2013 milestone. In table 1 below, 2014 and 2015 WRAP data shows similar SO2 reduction trends that continue beyond 2013 toward 2018. No triggering of the backstop trading program has been necessary and the likelihood of meeting the 2018 target means no changes in the program are needed at the moment. The compliance dates show that SO2 emissions have consistently been below each annual RPG and are currently tracking to be below the 2018 milestone.

Table 1—SO2 Emission Milestones ²³
Year | Regional SO2 milestone tons per year (tpy) | Average SO2 emissions to determine compliance with milestone: SO2 (tpy) | Average SO2 emissions to determine compliance with milestone: 3-Year average
2008 | 269,083 | 265,662 | 2006, 2007 and 2008.
2009 | 234,903 | 165,633 | 2007, 2008 and 2009.
2010 | 200,722 | 146,808 | 2008, 2009 and 2010.
2011 | 200,722 | 130,935 | 2009, 2010 and 2011.
2012 | 200,722 | 115,115 | 2010, 2011 and 2012.
2013 | 185,795 | 105,402 | 2011, 2012 and 2013.
2014 | 170,868 | 96,392 | 2012, 2013 and 2014.
2015 | 155,940 | 91,310 | 2013, 2014 and 2015.
2016 | 155,940 | Not Available | 2014, 2015 and 2016.
2017 | 155,940 | Not Available | 2015, 2016 and 2017.
2018 | 141,849 | Not Available | 2016, 2017 and 2018.
2019 forward | 141,849 | Not Available | Annual; no averaging.

2. NOX and PM Control Strategies

²³ The milestone numbers reflect the participation of Wyoming, Utah, and New Mexico (including the City of Albuquerque and Bernalillo County) in the 309 backstop trading program.

The County included a report in its 2011 regional haze SIP that assessed emission control strategies for NOX and PM stationary sources, and the degree of visibility improvement that would result from their implementation.²⁴ The report concluded that current and future NOX and PM emissions do not show to be major contributors to regional haze (typically about two percent on average) in the vast majority of western Class I areas. The report represented the initial assessment of stationary source NOX and PM strategies for regional haze, and was a starting point for a more extensive analysis in the future. The 2011 regional haze SIP stated that the progress report would assess the need for new NOX and PM control measures to address any new contributions to regional haze from stationary sources in the County. The County concluded in the progress report that it does not find new control measures necessary for NOX and PM stationary sources at this time. Stationary source NOX and PM emissions in the County have not impeded reasonable progress of emissions and visibility in New Mexico as a whole and are not likely to do so. Please refer to the emission reduction section of this report for more details regarding NOX and PM emissions.

²⁴ The report, Stationary Source NOX and PM Emissions in the WRAP Region: An Initial Assessment of Emissions, Controls, and Air Quality Impacts, was prepared by the WRAP and is included in Appendix H-O of the SIP.

3. Best Available Retrofit Technology (BART) ²⁵

²⁵ BART sources are those sources that have the potential to emit 250 tons or more of visibility-impairing pollutants, were put in place between August 7, 1962 and August 7, 1977, and whose operations fall within one or more of 26 specifically listed source categories.

The regional haze SIP determined that there are no BART-eligible sources in the County, so there are no requirements to install BART controls.²⁶ Even so, the progress report mentioned how the County must still specifically demonstrate that its SO2 milestone and backstop-trading program will achieve greater reasonable progress than would be achieved by implementation of BART controls.²⁷ Under this approach, a section 51.309 regional haze SIP must establish declining SO2 emission milestones for each year of the program through 2018. The milestones must be consistent with the GCTVC's goal of fifty to seventy percent reduction in SO2 emissions by 2040. As demonstrated in the County's regional haze SIP, the SO2 milestones provide greater reasonable progress than BART and track at a sixty percent pace reduction of the 1990 SO2 emission levels.²⁸ The actual annual SO2 emission reduction results outperformed this milestone pace. The progress report showed that the three-year average SO2 emissions for 2013 was 43 percent below the 2013 milestone at 105,402 tons SO2 (see Table 1). That represents a 71 percent reduction from the 1990 emission totals and is exceeding the GCVTC goal of fifty to seventy percent reduction. The regional SO2 emissions have continued to decline at a faster pace than called for by the SO2 milestones. Thus, as anticipated, the milestone program has actually continued to achieve greater reasonable progress than would be the case if BART were implemented.

²⁶ The WRAP identified three potential BART-eligible sources in the County. These were PNM Reeves Generating Station, GCC Rio Grande Inc., and Cobisa Person Power Project. The AQCB assessed whether these facilities were existing stationary facilities as defined at 40 CFR 51.301 and determined that all three sources were not BART-eligible. PNM Reeves and GCC Rio Grande were not in existence nor operating during the requisite time period, and Cobisa Person Power Project did not have emission units in the 26 source categories for BART. See the EPA's proposed approval for the County's regional haze SIP (77 FR 24768, 24782, April 25, 2012).

²⁷ 40 CFR 51.309(d)(4)(i).

²⁸ See the County's 2011 regional haze SIP submittal (pages 112-124). SO2 emissions from sources in 1990 totaled 358,364 tpy and the 2018 milestone is 141,849 tpy, which represents sixty percent reduction.

4. Mobile Source Emissions

The progress report mentioned that the County is relying upon federal standards as long-term measures to achieve declines in mobile source emissions that contribute to regional haze.²⁹ The County also committed itself in the SIP to monitoring mobile source emissions (through the WRAP) to assure a continuous decline in emissions as defined in 40 CFR 51.309(b)(6).³⁰ A statewide inventory of baseline and future annual mobile source emissions has been compiled for the years 2003-2018 with assistance from the WRAP.³¹

²⁹ See the County's 2011 regional haze SIP (pages 56-58) and New Mexico's 2011 regional haze SIP (page 144) for ongoing implementation of federal mobile source regulations. The County regional haze SIP listed as a haze-control measure 20.11.104 NMAC, Emission Standards for New Motor Vehicles. This regulation was adopted in 2007 to implement California's clean car standards. At the time the regulation was adopted by New Mexico, the California standards were projected to substantially differ from federal motor vehicle emissions standards. Since that time, the California and federal programs for emissions standards for motor vehicles have become more aligned with each other than was expected by New Mexico when it adopted the State Mobile Source Regulation. For example, in 2009, the EPA and the National Highway Traffic Safety Administration (NHTSA) proposed “regulatory convergence” with California on motor vehicle fuel economy standards. See 74 FR 49454 (September 28, 2009). This was subsequently adopted, starting with model years 2012-2016. 75 FR 25323 (May 7, 2010). Therefore, 20.11.104 NMAC is currently redundant and is not being implemented.

³⁰ See the County's 2011 regional haze SIP (page 59).

³¹ See WRAP 2013 Summary Report, pages 3-11 to 3-20, 4-1 to 4-2, and 6-222 to 6-233.

5. Fire and Smoke Management

The County is relying on fire and smoke management programs under 20.11.21 NMAC, Open Burning, in order to help control anthropogenic fire related emissions of VOCs, NOX, elemental carbon, organic carbon, and PM2.5. This regulation requires that most open burning in Bernalillo County be conducted under a permit from the City of Albuquerque EHD subject to specific requirements, including: reporting of emissions for use in emissions inventories; consideration of alternatives to burning; use of enhanced smoke management techniques recommended by the WRAP; and use of specific emission reduction techniques. The programs in this measure are generally designed to limit increases in emissions, rather than to reduce existing emissions.

6. Fugitive and Unpaved Road Dust Measures

The progress report mentioned measures that provide for control of PM10 and PM2.5 emissions from unpaved roads and from stationary fugitive dust sources.³² The EHD implements this requirement through 20.11.20 NMAC, Fugitive Dust Control, which requires the use of reasonably available control measures (RACM) to reduce fugitive dust that impairs visibility or adversely affects public health, welfare, and safety.³³ The measure prevents fugitive dust from leaving sites where it is produced, and thus reduces the amount of those emissions. The regulation requires sources to obtain permits and pay related fees, limits construction activity, and has an active enforcement program in place to implement the provisions on an ongoing basis. In addition, the AQCB tracks road dust emissions with the assistance of the WRAP. They provide updates, including modeling and monitoring information, on paved and unpaved road dust emission impacts on visibility in the sixteen Colorado Plateau Class I Areas.

³² For more information on the WRAP modeling and assessment of road dust impacts, see section F of the County regional haze SIP (pages 69-71).

³³ The City of Albuquerque EHD also has delegated authority to enforce applicable federal standards related to particulate matter, as promulgated in 40 CFR Sections 60, 61, and 63.

7. Additional Controls—Local State Regulations

The County lists several local regulations that are being used to aid in controlling emissions that contribute to the formation of regional haze at Class I areas. These regulations, and the pollutants targeted by them, appear in table 2 below. The EHD implements and enforces these regulations on a continuing basis.

Table 2—County Regulations Applicable to Regional Haze ³⁴
Regulation | Description | Pollutant controlled
20.11.22 NMAC | Wood burning | CO, PM.
20.11.65 NMAC | Volatile Organic Compounds | VOCs.
20.11.66 NMAC | Process Equipment | PM.
20.11.67 NMAC | Equipment, Emissions, Limitations | SO2, NOX, PM.
20.11.71 NMAC | Municipal Solid Waste Landfills | CO.
20.11.100 NMAC | Motor Vehicle Inspection, Decentralized | CO, PM, hydrocarbons.
20.11.102 NMAC | Oxygenated Fuels | CO.
20.11.103 NMAC | Motor Vehicle Visible Emissions | PM.

8. Summary of Control Strategy Implementation

³⁴ See the County Web site for a listing of the NMAC rules at http://164.64.110.239/nmac/_title20/T20C011.htm.

The EPA proposes to conclude that the County adequately addressed the status of control measures in its regional haze SIP, as required by the provisions under 40 CFR 51.309(d)(10)(i)(A) for the first implementation period. The County's progress report documented the status of all control measures included in its regional haze SIP and described additional measures that came into effect since the County's regional haze SIP was completed, including state regulations and various federal measures. All major control measures were identified and the strategy behind each control was explained. The County included a summary of the implementation status associated with each control measure and quantified the benefits where possible. In addition, the progress report SIP adequately outlined the compliance timeframe for all controls

C. Emission Reductions From Control Strategies

The provisions under 40 CFR 51.309(d)(10)(i)(B) require the state to provide a summary of the emission reductions achieved in the state through the control measures subject to the requirements under 40 CFR 51.309(d)(10)(i)(A). As mentioned previously, the County identified ammonium sulfate, particulate organic matter, and coarse mass as the largest contributors historically to visibility impairment at New Mexico's Class I areas for the initial round of regional haze SIPS. Many of the sources, however, that produce these visibility-impairing pollutants in New Mexico are natural, rather than anthropogenic in nature, and are not controllable. As a result, the New Mexico progress report focused on emission reductions from point sources because they represent the anthropogenic sources in New Mexico.³⁵ The New Mexico report showed that these pollutants have mostly been contributing less to visibility impairment at New Mexico Class I areas over time, and the anthropogenic point source emissions related to these pollutants have also been declining in areas of the state outside the County.³⁶

³⁵ See the 2014 New Mexico Regional Haze Progress Report (page 7).

³⁶ See Figure 3.6 from the 2014 New Mexico Regional Haze Progress Report (page 15).

For comparison, in its progress report, the County took the same approach as New Mexico and reported anthropogenic point source emission data (see table 3) from the County for NOX, SO2, PM10, and PM2.5 and compared it to WRAP 2018 projections for the 2008-2013 time-period.

³⁷ See the 2016 County Regional Haze Progress Report (page 21).

Table 3—The County Stationary Point Source Emissions Compared to 2018 WRAP Projections ³⁷
Year | NOX (tpy) | SO2 (tpy) | PM10 (tpy) | PM2.5 (tpy)
2008 | 1,139 | 57 | 1,222 | 239
2011 | 1,120 | 74 | 186 | 110
2012 | 1,167 | 132 | 351 | 116
2013 | 1,401 | 165 | 323 | 117
2018 WRAP Projections | 3,402 | 1,612 | 411 | 23

The County noted that pollutant emissions from the County have not impeded reductions in the rest of the state. SO2 and NOX county emission trends have increased slightly since 2008 but have remained well below the WRAP 2018 projections for point sources and were just a fraction of the levels observed in the rest of the state (see table 4). PM10 emission levels for the County were below the WRAP 2018 projections while PM2.5 levels were above the WRAP predictions. Although the PM2.5 levels were above WRAP 2018 projections, PM emission levels from the County have decreased in a downward trend for both fine particulates and coarse mass since 2008. When comparing pollutant emission contributions of NOX, SO2, PM10, and PM2.5 from the County to the statewide national emission inventory (NEI), the County concluded that it is improbable that the County emissions have had significant impacts on nearby Class I areas. The reported point source amounts from the County remain low in comparison to those from the rest of the state as seen from the statewide NEI data in table 4.

³⁸ As reported in the online EPA Emissions Inventory System (EIS) Gateway database for point sources only.

Table 4—NEI Point Source Emission Data for New Mexico for 2002-2014 ³⁸
Year | NOX (tpy) | SO2 (tpy) | PM10 (tpy) | PM2.5 (tpy)
2002 | 95,493 | 36,392 | 6,558 | 5,511
2005 | 72,707 | 18,532 | 3,611 | 2,994
2008 | 57,461 | 22,868 | 2,953 | 1,754
2011 | 47,497 | 19,987 | 2,545 | 1,722
2014 | 42,623 | 12,535 | 3,091 | 1,538

The NEI data shows that the emission trend of each major contributor to visibility impairment in New Mexico has decreased significantly since 2002. NOX emissions have decreased by 55 percent and SO2 emissions have decreased by 65 percent. PM reductions also reduced considerably from their NEI baseline totals (52% for PM10 and 72% for PM2.5) and remain below the 2018 WRAP projections for New Mexico, although not especially pronounced.³⁹ A more-detailed breakdown of the distribution of each contributing pollutant species can be seen in section E of this report.

³⁹ See Figure 3.6 from the 2014 New Mexico Regional Haze Progress Report (page 15).

The EPA proposes to conclude that the County adequately addressed the requirements under 40 CFR 51.309(d)(10)(i)(B) with its summary of emission reductions of visibility impairing pollutants. Overall, the County demonstrated the emission reductions achieved in the major contributing visibility impairing pollutants in the County for the first implementation period. Anthropogenic emissions of haze related pollutants from stationary point sources in the County are unlikely to reverse the larger, favorable statewide emission trends, because over time such local emissions have remained at a fraction of the levels seen in the rest of the state. Furthermore, such county emissions are under or close to the WRAP 2018 projections for those pollutants.⁴⁰

⁴⁰ See the 2016 County Regional Haze Progress Report (pages 15-22).

D. Visibility Progress

The provisions under 40 CFR 51.309(d)(10)(i)(C) require that states with Class I areas provide the following information for the most impaired and least impaired days ⁴¹ for each area, with values expressed in terms of five-year averages of these annual values: (1) Current visibility conditions; (2) the difference between current visibility conditions and baseline visibility conditions; and (3) the change in visibility impairment over the past five years. The County does not have any Class I areas within its borders; therefore, no visibility data is required to be analyzed for this element. In regard to New Mexico's Class I areas outside of the County, please note that when comparing baseline to current visibility conditions, the New Mexico progress report showed that New Mexico is currently on track, if not exceeding, the visibility impairment emission reductions needed to achieve RPG's for 2018.⁴²

⁴¹ The most and least impaired days in the regional haze rule refers to the average visibility impairment (measured in deciviews) for the 20 percent of monitored days in a calendar year with the highest and lowest amount of visibility impairment, respectively, averaged over a five-year period (see 40 CFR 51.301).

⁴² See table 2.1 of New Mexico Regional Haze Progress Report (page 5).

E. Emissions Progress

The provisions under 40 CFR 51.309(d)(10)(i)(D) require an analysis tracking emission changes of visibility impairing pollutants from the state's sources by type or category over the past five years based on the most recent updated emission inventory. In its progress report SIP, the County presented WRAP emission inventories for 2002, 2008, and 2011, as well as projected inventories for 2018, in accordance with the requirements of 40 CFR 51.309(d)(10)(i)(D). The pollutant inventories included SO2, NOX, NH3, VOCs, organic carbon, elemental carbon, coarse mass, and soil dust. The inventories were categorized for all major visibility-impairing pollutants under major source groupings either as anthropogenic or natural. The anthropogenic source categorization included point and area sources; on and off-road mobile sources; area oil and gas; fugitive and road dust; and anthropogenic fire. The natural source categorization included natural fire, wind-blown dust, and biogenic sources. A breakdown of the total anthropogenic emissions for the County and state can be seen below in table 5. The table shows the percent apportionment of County emissions for each of the key haze-causing pollutants related to the rest of the state.

⁴³ The emission totals for the County are taken from the County regional haze progress report (tables 3.22-3.29). Emission totals for the entire state of New Mexico are taken from the New Mexico Regional Haze progress report (tables 3.23-3.30). Detailed inventory descriptions for development of the WRAP Base02b, plan02c and plan02d inventories are available on the WRAP TSS Web site http://vista.cira.colostate.edu/TSS/Results/Emissions.aspx and archived on the original WRAP Web site http://www.wrapair.org/forums/ssjf/pivot.html.

Table 5—Comparison of County and State Anthropogenic Emissions to WRAP 2018 Projections ⁴³
Pollutant species | Inventory | 2002 Total baseline emissions (tons/year) | 2008 Total emissions (tons/year) | 2011 Total emissions (tons/year) | WRAP 2018 projections (tons/year)
SO2 | County | 4,772 (10%) | 291 | 1,250 (6%) | 13,770
| State | 48,354 | 27,392 | 21,624
NOX | County | 33,661 (11%) | 16,960 | 14,760 (9%) | 26,819
| State | 295,266 | 211,132 | 168,008
NH3 | County | 1,400 (4%) | 856 | 682 (2%) | 1,683
| State | 32,266 | 43,840 | 37,071
VOCs | County | 25,573 (7%) | 19,137 | 14,574 (7%) | 23,891
| State | 344,077 | 268,792 | 214,360
PM2.5 | County | 2,229 (18%) | 4,112 | 5,777 (7%) | 2,433
| State | 12,573 | 61,587 | 85,576
Coarse Mass | County | 16,387 (25%) | 36,982 | 56,655 (7%) | 17,369
| State | 66,096 | 511,327 | 830,697

The WRAP data showed that the percentage of County emissions contributing to the total state emissions has decreased for each pollutant species from the 2002 baseline to 2011. The WRAP emission inventories were previously identified in the SIP as reflecting overestimates of actual emissions in key source categories. Even so, there has not been a drastic, sudden spike in the percentages, which would be a cause for concern for visibility degradation at the Class I areas. The decreasing WRAP percentages are indicators that the County “conservative” emission estimates have improved throughout the first implementation period and are contributing less and less to visibility impairment at Class I areas outside of its borders from 2002-2011. The County concluded that it is unlikely that the County emissions had significant impacts on nearby Class I areas as a result. The County's contribution of emissions compared to the New Mexico emission inventory, as estimated by the WRAP, is six percent of the State SO2 emissions; nine percent of the State NOX emissions; two percent of the State NH3 emissions; seven percent of the State VOC emissions; seven percent of the State PM2.5 emissions; and seven percent of the State coarse mass emissions. These percentages are all down from their 2002 baseline levels. PM2.5 and coarse mass 2011 total emissions are higher than the WRAP 2018 projections, but their decreasing percent contributions are better indicators of the progress made since emissions have increased statewide, yet their percentages have decreased from eighteen and 25 percent respectively, in 2002, to seven percent each in 2011.

The EPA is proposing to find that the County adequately addressed the requirements under 40 CFR 51.309(d)(10)(i)(D). The EPA concludes that the County presented an adequate analysis tracking emission trends for the key visibility impairing pollutants. The analysis provided the most recent period of approximately five years for which data was available in practical terms (2002-2008), and provided an additional update for 2011 that presented further information covering approximately two five-year periods (2002-2011). The trends indicate that it was improbable that sources located within the County caused or contributed to visibility impairment in any Class I area located outside of the County. The emission trends declined within the County compared to 2002 baseline levels and the percent contributions related to the rest of the state have all continued to decline over time.

F. Assessment of Changes Impeding Visibility Progress

The provisions under 40 CFR 51.309(d)(10)(i)(E) require an assessment of whether any significant emission changes have occurred within the state over the five-year period since the SIP was submitted, and whether emission increases outside the state are affecting a Class I area within the state adversely. A “significant change” could be either a substantial unexpected increase in anthropogenic emissions that occurred over the five-year period or a significant expected reduction in anthropogenic emissions that did not occur in the analysis for the SIP.

The EPA proposes to conclude that the County adequately addressed the provisions under 40 CFR 51.309(d)(10)(i)(E). The County does not have any Class I areas within its borders, so there is no requirement to assess impacts in the County from sources outside of its boundaries. Furthermore, the County sources do not impact any of the Class I areas outside of its borders, as was stated in the County's regional haze SIP revision, which the EPA approved on April 25, 2012.⁴⁴ In conjunction with that previous action, the EPA's current analysis of emission reductions to meet the provisions of 40 CFR 51.309(d)(10)(i)(B) and 40 CFR 51.309(d)(10)(i)(D) show that no “significant changes” in emissions within the County have occurred to impede visibility improvement or have adversely affected the nine Class I areas in New Mexico.⁴⁵ Emission trends for the key visibility impairing pollutants were confirmed to be decreasing from the baseline to 2018 by statewide NEI data and reported County emissions. Additionally, the WRAP data showed that emissions from the County have remained at the same percentage levels over time or decreased relative to emissions from elsewhere in the state.

⁴⁴ See 77 FR (24768, 24791).

⁴⁵ Changes in wildfires are not a “change” to report under 51.309(d)(10)(i)(E) per EPA guidance, General Principles for the 5-Year Regional Haze Progress Reports for the Initial Regional Haze State Implementation Plans (page 15).

G. Assessment of Current Strategy To Meet RPGs

The provisions under 40 CFR 51.309(d)(10)(i)(F) require an assessment of whether the current regional haze SIP is sufficient to enable the state, or other states, to meet the RPGs for Class I areas affected by emissions from the state. The County does not contain any Class I areas, and emissions from the County were found to not impact any Class I areas outside of its borders. As discussed previously, the NEI data showed that the total emissions of each major contributor to visibility impairment in New Mexico has decreased significantly since 2002. The total County emissions have remained at a fraction of the levels seen in the rest of the state and are under or close to the WRAP 2018 RPGs when looking at the cumulative anthropogenic emissions.

The County provided a breakdown showing whether or not every key pollutant in each source category was meeting its 2018 RPGs for annual emissions.⁴⁶ Of the 56 individual RPGs for the County, 42 were either being met or referred to pollutants that showed declining emissions since 2002. Fourteen of the County goals were not yet being met as of the 2011 WRAP inventory, but nine of those annual goals showed reported emission levels less than 200 tpy, and one was just under 500 tpy. Those ten goals were associated with point sources and on and off road mobile source categories. The County concluded that those ten reported emissions were unlikely to impede New Mexico's progress toward achieving statewide goals for emissions and visibility since the emission levels represented a negligible portion of total statewide emissions.

⁴⁶ Showed in tables 3.22-3.29 of the County Regional Haze Progress Report.

The four remaining annual emission goals that were not being met covered coarse mass, organic carbon, and PM2.5 pollutants. The increased contributions from these pollutants were associated with fugitive/road dust and area (non-point) source categories. Annual emissions with higher levels of organic matter, elemental carbon, PM2.5 and coarse mass with a lower contribution from ammonium sulfate are heavily dominated from wildfires and particulate matter. High coarse mass was measured during the spring, which was indicative of high-wind events that occurred during the late winter and spring months in New Mexico. Wildfires or high-wind events might again affect annual emissions in the 2018 timeframe, but the County showed that it is meeting nearly all of its annual emission goals even with experienced annual emission increases from natural events that still have not hindered New Mexico from meeting its RPGs beyond the County borders. The County expects further reduction of SO2 and NO2 emissions, the primary pollutant species associated with anthropogenic sources, to continue their broad declines in the same areas.

The EPA proposes to conclude that the County has addressed 40 CFR 51.309(d)(10)(i)(F) because its current regional haze SIP is sufficient to enable the state of New Mexico and other nearby states to meet their RPGs, particularly as the County was not identified as contributing to any impairment in such Class I areas. The fairly constant proportion of County emissions compared to the rest of the state are negligible. In spite of natural events, the County showed that it is meeting nearly all of its annual emission goals and the annual emission increases from natural events still have not hindered New Mexico from meeting its RPGs beyond the County borders.

H. Review of Visibility Monitoring Strategy

The provisions under 40 CFR 51.309(10)(i)(G) require a review of a state's visibility monitoring strategy for visibility impairing pollutants and an assessment of whether any modifications to the strategy are necessary. In its progress report SIP, the County stated that there are no Class I areas within its boundaries, and therefore it was not required to fulfill this provision. The EPA proposes to conclude that the County is exempt from addressing the requirements of 40 CFR 51.309(10)(i)(G), as that requirement is solely for states with Class I areas in their borders.⁴⁷

⁴⁷ The New Mexico progress report concluded (pages 46-47) that no changes in the state's visibility monitoring strategy are needed because the IMPROVE network has continued to provide adequate monitoring data to support implementation of the RHR.

I. Determination of Adequacy of Existing Regional Haze Plan

Under 40 CFR 51.309(d)(10)(ii), states are required to submit, at the same time as the progress report SIP, a determination of the adequacy of their existing regional haze SIP and to take one of four possible actions based on information in the progress report. 40 CFR 51.309(d)(10)(ii) requires states to take one of the following actions:

(1) Submit a negative declaration to the EPA that no further substantive revision to the State's existing regional haze SIP is needed.

(2) If the State determines that the implementation plan is or may be inadequate to ensure reasonable progress due to emissions from sources in another state(s) which participated in a regional planning process, the State must provide notification to the EPA and to the other state(s) which participated in the regional planning process with the states. The State must also collaborate with the other state(s) through the regional planning process for developing additional strategies to address the plan's deficiencies.

(3) Where the State determines that the implementation plan is or may be inadequate to ensure reasonable progress due to emissions from sources in another country, the State shall provide notification, along with available information, to the Administrator.

(4) If the State determines that the implementation plan is or may be inadequate to ensure reasonable progress due to emissions from sources within the State, then the State shall revise its implementation plan to address the plan's deficiencies within one year.

The City of Albuquerque and Bernalillo County, New Mexico has provided the information required under 40 CFR 51.309(d)(10)(i) in the five-year progress report. Based upon this information, the County stated in its progress report SIP that it believes that the current Section 309 and Section 309(g) regional haze SIPs are adequate to meet the State's 2018 RPGs and require no further revision at this time. Thus, the EPA has received a negative declaration from the City of Albuquerque and Bernalillo County, NM.

IV. The EPA's Proposed Action

The EPA is proposing to approve the City of Albuquerque and Bernalillo County, New Mexico's regional haze five-year progress report SIP revision (submitted June 24, 2016) as meeting the applicable regional haze requirements set forth in 40 CFR 51.309(d)(10). The EPA is proposing to approve the City of Albuquerque and Bernalillo County, New Mexico's determination that the current regional haze SIP is adequate to meet the State's 2018 RPGs.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993), 13563 (76 FR 3821, January 21, 2011), and 13771 (82 FR 9339, February 2, 2017);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994). In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Best Available Retrofit Technology, Carbon monoxide, Incorporation by reference, Intergovernmental relations, Lead, Nitrogen dioxide, Ozone, Particulate matter, Reporting and recordkeeping requirements, Regional haze, Sulfur dioxide, Visibility, Volatile organic compounds.

Authority: 42 U.S.C. 7401 et seq.

Dated: September 26, 2017.
Samuel Coleman,
Acting Regional Administrator, Region 6.

[FR Doc. 2017-21006 Filed 9-29-17; 8:45 am]

BILLING CODE 6560-50-P